DEPARTMENT OF ENERGY

Federal Energy Regulatory Commission

Combined Notice of Filings #1

Take notice that the Commission received the following electric corporate filings:

Docket Numbers: EC17-78-000.

Applicants: MS Solar 2, LLC.

Description: Application for Authorization of Transaction under Section 203 of the FPA of MS Solar 2, LLC.

Filed Date: 2/13/17.

Accession Number: 20170213-5336.

Comments Due: 5 p.m. ET 3/6/17.

Take notice that the Commission received the following electric rate filings:

Docket Numbers: ER17-114-002.

Applicants: California Independent System Operator Corporation.

Description: Compliance filing: 2017-02-13 Compliance Order No. 827 Response FERC Request Additional Information to be effective 9/21/2016.

Filed Date: 2/13/17.

Accession Number: 20170213-5264.

Comments Due: 5 p.m. ET 3/6/17.

Docket Numbers: ER17-387-001.

Applicants: Midcontinent Independent System Operator, Inc.

Description: Tariff Amendment: 2017-02-13_Deficiency response—Att FF-6 filing to address cost allocation gap to be effective 1/18/2017.

Filed Date: 2/13/17.

Accession Number: 20170213-5222.

Comments Due: 5 p.m. ET 3/6/17.

Docket Numbers: ER17-950-001.

Applicants: PJM Interconnection, L.L.C.

Description: Tariff Amendment: Errata to ConEd Wheeling Termination filing in ER17-950-000 to be effective 5/1/2017.

Filed Date: 2/13/17.

Accession Number: 20170213-5201.

Comments Due: 5 p.m. ET 3/6/17.

Docket Numbers: ER17-968-000.

Applicants: Midcontinent Independent System Operator, Inc.

Description: § 205(d) Rate Filing: 2017-02-13_SA 2527 ITC-Consumers 3rd Amended GIA (J161) to be effective 2/14/2017.

Filed Date: 2/13/17.

Accession Number: 20170213-5204.

Comments Due: 5 p.m. ET 3/6/17.

Take notice that the Commission received the following qualifying facility filings:

Docket Numbers: QF17-673-000.

Applicants: Beaver Creek Wind II, LLC.

Description: Application for Certification of Beaver Creek Wind II, LLC.

Filed Date: 2/9/17.

Accession Number: 20170209-5303.

Comments Due: 5 p.m. ET 3/2/17.

Docket Numbers: QF17-674-000.

Applicants: Beaver Creek Wind III, LLC.

Description: Application for Certification of Beaver Creek Wind III, LLC.

Filed Date: 2/9/17.

Accession Number: 20170209-5304.

Comments Due: 5 p.m. ET 3/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2017.
Nathaniel J. Davis, Sr.,
Deputy Secretary.

[FR Doc. 2017-03317 Filed 2-17-17; 8:45 am]

BILLING CODE 6717-01-P